DEPARTMENT OF COMMERCE

National Oceanic and Atmospheric Administration

[RTID 0648-XC873]

Marine Mammals; File No. 27246

AGENCY: National Marine Fisheries Service (NMFS), National Oceanic and Atmospheric Administration (NOAA), Commerce.

ACTION: Notice; withdrawal of application.

SUMMARY: Notice is hereby given that Yara Bernaldo de Quirós, Ph.D., University of Colorado Boulder, Boulder, CO 80309, has withdrawn an application for a permit to receive parts from bottlenose dolphins (Tursiops truncatus) for scientific research.

ADDRESSES: The application and related documents are available for review upon written request via email to NMFS.Pr1Comments@noaa.gov.

FOR FURTHER INFORMATION CONTACT: Jennifer Skidmore or Shasta McClenahan, Ph.D., (301) 427-8401.

SUPPLEMENTARY INFORMATION: On February 17, 2023, notice was published in the Federal Register (88 FR 10300) that a request for a permit to receive bottlenose dolphin parts from the National Marine Mammal Tissue Bank had been submitted by the above-named applicant. The applicant has withdrawn the application from further consideration.

Dated: March 27, 2023.
Julia M. Harrison,
Chief, Permits and Conservation Division, Office of Protected Resources, National Marine Fisheries Service.

[FR Doc. 2023-06662 Filed 3-30-23; 8:45 am]

BILLING CODE 3510-22-P